FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 3, 2017.

A. Federal Reserve Bank of Chicago (Colette A. Fried, Assistant Vice President) 230 South LaSalle Street, Chicago, Illinois 60690-1414:

1. Anton J. Zueger, Walnut, Illinois; Doris Zueger, Bronschofen, Switzerland; Markus Fisch, Walnut, Illinois; Marlies Fisch, Walnut, Illinois; Patrick Fisch, Walnut, Illinois; Gabriella Fisch, Walnut, Illinois; and Alex Fisch, Walnut, Illinois; as group acting in concert to acquire 10 percent or more of the common stock of Citizens Bancshares, Inc. Walnut, Illinois, and thereby indirectly control Citizens First State Bank of Walnut, Walnut, Illinois.

2. R. Bruce Atherton, Walnut, Illinois; Patricia L. Atherton, Walnut, Illinois; Jeanne L. Atherton, Walnut, Illinois; and Shari Sterennberg, Chatsworth, Illinois; as a group acting in concert, to acquire voting shares of Citizens Bancshares, Inc. Walnut, Illinois, and thereby indirectly acquire shares of Citizens First State Bank of Walnut, Walnut, Illinois.

B. Federal Reserve Bank of Minneapolis (Jacquelyn K. Brunmeier, Assistant Vice President) 90 Hennepin Avenue, Minneapolis, Minnesota 55480-0291:

1. Patrick Artz, Richard Kornkven, and Monte Mikkelsen, all of Bottineau, North Dakota; to each acquire voting shares of State Bank of Bottineau Holding Company, Bottineau, North Dakota, and thereby indirectly acquire shares of State Bank of Bottineau, Bottineau, North Dakota.

Board of Governors of the Federal Reserve System, February 15, 2017.
Yao-Chin Chao,
Assistant Secretary of the Board.

[FR Doc. 2017-03376 Filed 2-21-17; 8:45 am]

BILLING CODE 6210-01-P